DEPARTMENT OF COMMERCE

International Trade Administration

Secretarial Indonesia Clean Energy Business Development Mission: Application Deadline Extended

AGENCY: International Trade Administration, Department of Commerce.

ACTION: Notice.

Timeframe for Recruitment and Applications

Mission recruitment will be conducted in an open and public manner, including publication in the Federal Register, posting on the Commerce Department trade mission calendar (http://www.ita.doc.gov/doctm/tmcal.html) and other Internet web sites, press releases to general and trade media, direct mail, broadcast fax, notices by industry trade associations and other multiplier groups, and publicity at industry meetings, symposia, conferences, and trade shows. The Commerce Department's Office of Business Liaison and the International Trade Administration will explore and welcome outreach assistance from other interested organizations, including other U.S. Government agencies.

Recruitment for this mission will begin immediately upon approval. Applications can be completed on-line at the Clean Energy Business Development Missions' Web site at http://www.trade.gov/CleanEnergyMission or can be obtained by contacting the U.S. Department of Commerce Office of Business Liaison (202-482-1360 or CleanEnergyMission@doc.gov). The application deadline has been extended to Friday, March 12, 2010. Completed applications should be submitted to the Office of Business Liaison. Applications received after Friday, March 12, 2010 will be considered only if space and scheduling constraints permit.

Contacts

The Office of Business Liaison, 1401 Constitution Avenue, NW., Room 5062, Washington, DC 20230, Tel: 202-482-1360, Fax: 202-482-4054, E-mail: CleanEnergyMission@doc.gov.

Sean Timmins,
Global Trade Programs, Commercial Service Trade Missions Program.

[FR Doc. 2010-4127 Filed 2-26-10; 8:45 am]

BILLING CODE 3510-DS-P